DEPARTMENT OF ENERGY

Federal Energy Regulatory Commission

[Project No. 5867-051]

Alice Falls Corporation, Alice Falls Hydro, LLC; Notice of Application for Transfer of License, and Soliciting Comments and Motions To Intervene

On February 23, 2012, Alice Falls Corporation (transferor) and Alice Falls Hydro, LLC (transferee) filed an application for transfer of license ¹ for the Alice Falls Hydroelectric Project, No. 5867, located on the AuSable River in Clinton and Essex counties, New York.

¹ 25 FERC ¶ 62,015, Order Issuing License (Major Under 5MW) and Denying Competing Preliminary Permit Applications, issued October 5, 1983.

Applicants seek Commission approval to transfer the license for the Alice Falls Hydroelectric Project from transferor to transferee.

Applicants' Contact: Transferor: Alice Falls Corporation, c/o Joshua A. Sabo, Esq., 287 North Greenbush Road, Troy, NY 12180, (518) 286-9050. Transferee: Alice Falls, Hydro, LLC, c/o Champlain Spinners Power Corporation, Inc., Attn: Margaret Benedict, 813 Jefferson Hill Road, Nassau, NY 12123, (518) 766-2753.

FERC Contact: Patricia W. Gillis at (202) 502-6779, patricia.gillis@ferc.gov.

Deadline for filing comments and motions to intervene: 30 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-5867) in the docket number field to access the document. For assistance, call toll-free 1-866-208-3372.

Dated: April 4, 2012.
Kimberly D. Bose,
Secretary.

[FR Doc. 2012-8649 Filed 4-10-12; 8:45 am]

BILLING CODE 6717-01-P